DEPARTMENT OF LABOR

Employment and Training Administration

[TA-W-70,089]

Glenn Springs Holdings, Inc., a Subsidiary of Occidental Petroleum Corporation, New Castle, DE; Notice of Negative Determination Regarding Application for Reconsideration

By application dated August 19, 2009, a company official requested administrative reconsideration of the Department's negative determination regarding eligibility for workers and former workers of the subject firm to apply for Trade Adjustment Assistance (TAA). The denial notice was signed on July 24, 2009 and published in the Federal Register on September 2, 2009 (74 FR 45478).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition filed on behalf of workers at Glenn Springs Holdings, Inc., a subsidiary of Occidental Petroleum Corporation, New Castle, Delaware was based on the finding that imports of services like or directly competitive with services provided by workers of the subject firm did not contribute to worker separations at the subject firm during the relevant period. The investigation revealed that workers of the subject firm were engaged in refining facility's water, removing sludge from machines, repairing the building's electrical system, distributing the anhydrous potassium hydroxide and closing the facility. The subject firm did not import nor acquire services from a foreign country and also did not shift the provision of these services to a foreign country.

In the request for reconsideration, the petitioner stated that workers of the subject firm were previously certified eligible for TAA based on increased imports of chlorine. The petitioner further stated that even though production of chlorine did not occur at the subject facility in the relevant period, workers of the subject firm were retained by the subject firm to effectively close the plant. The petitioner appears to allege that because workers of the subject firm were previously certified eligible for TAA and the workers of the current petition were the part of that worker group but stayed employed beyond the expiration date of the previous certification, the workers of the subject firm should be granted another TAA certification.

The workers of Glenn Springs Holdings, Inc., a subsidiary of Occidental Petroleum Corporation, New Castle, Delaware were previously certified eligible for TAA under petition numbers TA-W-58,508, which expired on January 12, 2008. The investigation revealed that at that time workers of the subject firm were engaged in production of chlorine and the employment declines at the subject facility were attributed to increased imports of chlorine. However, the current investigation revealed that production of chlorine at the subject firm ceased during November 2007.

When assessing eligibility for TAA, the Department exclusively considers worker activities during the relevant time period (from one year prior to the date of the petition). Therefore, events occurring in 2007 are outside of the relevant period and are not considered in this investigation.

The investigation revealed that workers of the subject firm were engaged in refining facility's water, removing sludge from machines, repairing the building's electrical system, distributing the anhydrous potassium hydroxide and closing the facility during the relevant period. These functions, as described above, were not imported, or shifted abroad nor were the service acquired from a foreign country during the relevant period. Therefore, criteria II.A. and II.B. of Section 222(a) of the Act were not met. Furthermore, with the respect to Section 222(c) of the Act, the investigation revealed that criterion 2 was not met because the workers did not supply a service that was used by a firm with TAA-certified workers in the production of an article or supply of a service that was a basis for TAA certification.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed at Washington, DC, this 22nd day of September 2009.
Elliott S. Kushner,
Certifying Officer, Division of Trade Adjustment Assistance.

[FR Doc. E9-23910 Filed 10-2-09; 8:45 am]

BILLING CODE 4510-FN-P